DEPARTMENT OF THE INTERIOR

National Park Service

[NPS-WASO-NAGPRA-NPS0037053; PPWOCRADN0-PCU00RP14.R50000]

Notice of Intent To Repatriate Cultural Items: San Francisco State University NAGPRA Program, San Francisco, CA

AGENCY: National Park Service, Interior.

ACTION: Notice.

SUMMARY: In accordance with the Native American Graves Protection and Repatriation Act (NAGPRA), the San Francisco State University NAGPRA Program, in consultation with the appropriate Indian tribes, intends to repatriate certain cultural items that meet the definition of unassociated funerary objects and that have a cultural affiliation with the Indian Tribes or Native Hawaiian organizations in this notice. The cultural items were removed from Lake County, CA.

DATES: Repatriation of the cultural items in this notice may occur on or after January 12, 2024.

ADDRESSES: Elise Green, San Francisco State NAGPRA Program, 1600 Holloway Avenue, San Francisco, CA 94132, telephone (415) 405-3545, email egreent@sfsu.edu.

SUPPLEMENTARY INFORMATION: This notice is published as part of the National Park Service's administrative responsibilities under NAGPRA. The determinations in this notice are the sole responsibility of the San Francisco State NAGPRA Program. The National Park Service is not responsible for the determinations in this notice. Additional information on the determinations in this notice, including the results of the consultation, can be found in the summary or related records held by the San Francisco State NAGPRA Program.

Description

In 1972, cultural items were removed from site CA-LAK-305, on the main arm of Sam Alley Ridge in Lake County, CA. The items were stored in the San Francisco State College Anthropology Collection and subsequently became part of the Tregenza Anthropology Museum's (TAM) archeological collection. Upon closure of the TAM in 2012, the items were transferred to the San Francisco State University NAGPRA program. The 180 unassociated funerary objects are 22 shells, three pieces of wire, one medial section square nail, one partial obsidian point, 39 square nails, 11 obsidian projectile point tip fragments, six chert projectile point fragments, 10 chert scrapers, seven obsidian scrapers, four obsidian projectile point fragments, one small square nail, one round nail, seven square nail fragments, one partial basal projectile point, one notched obsidian point, one corner notch point, two corner notch projectile point fragments, two square nail fragments, two corner notch obsidian point projectiles, one side notch projectile point, one projectile point fragment, two obsidian flakes, one medial section square nail, one chert projectile point base fragment, one projectile point fragment, one fragment of cooper, one iron chunk, two worked chert flakes, 14 worked pieces of chert, one chert corner notch point, one drill scraper point, two modified chert flakes, two pieces of glass, one square spike, one chert tip fragment, one obsidian burin, one medial obsidian projectile point fragment, one Winchester No.12 shotgun shell, one modified obsidian flake, one obsidian flake tool, one basal fragment small projectile point, one large nail, one large nail fragment, one chert knife fragment, one utilized chert flake, one reworked obsidian flake, two utilized obsidian flakes, one worked piece of obsidian, one thin triangular blade tip flake, one chert core medial fragment, one square nail medial, one modified piece of chert, four worked pieces of obsidian, two pieces of milky quartz, and one heavy metal ring.

Cultural Affiliation

The cultural items in this notice are connected to one or more identifiable groups, tribes, peoples, or cultures. There is a relationship of shared group identity between the identifiable groups, tribes, peoples, or cultures and one or more Indian Tribes or Native Hawaiian organizations. The following types of information were used to reasonably trace the relationship: anthropological, archeological, geographical, historical, linguistic, and other relevant information or expert opinion.

Determinations

Pursuant to NAGPRA and its implementing regulations, and after consultation with the appropriate Indian Tribes and Native Hawaiian organizations, the San Francisco State NAGPRA Program has determined that:

• The 180 cultural items described above are reasonably believed to have been placed with or near individual human remains at the time of death or later as part of the death rite or ceremony and are believed, by a preponderance of the evidence, to have been removed from a specific burial site of a Native American individual.

• There is a relationship of shared group identity that can be reasonably traced between the cultural items and the Habematolel Pomo of Upper Lake, California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 12, 2024. If competing requests for repatriation are received, the San Francisco State NAGPRA Program must determine the most appropriate requestor prior to repatriation. Requests for joint repatriation of the cultural items are considered a single request and not competing requests. The San Francisco State NAGPRA Program is responsible for sending a copy of this notice to the Tribe identified in this notice.

Authority: Native American Graves Protection and Repatriation Act, 25 U.S.C. 3003, and the implementing regulations, 43 CFR 10.8, 10.10, and 10.14.

Dated: December 6, 2023.
Melanie O'Brien,
Manager, National NAGPRA Program.

[FR Doc. 2023-27367 Filed 12-12-23; 8:45 am]

BILLING CODE 4312-52-P